DEPARTMENT OF COMMERCE

International Trade Administration

[A-201-820]

Correction: Fresh Tomatoes From Mexico: Notice of Initiation of Changed Circumstances Review and Consideration of Termination of Suspended Investigation

AGENCY: Import Administration, International Trade Administration, Department of Commerce.

DATES: Effective Date: August 21, 2012.

FOR FURTHER INFORMATION CONTACT: Judith Wey Rudman or Anne D'Alauro, Import Administration, International Trade Administration, U.S. Department of Commerce, 14th Street and Constitution Avenue NW., Washington DC 20230; telephone (202) 482-0192 or (202) 482-4830, respectively.

SUPPLEMENTARY INFORMATION: On August 14, 2012, the Department of Commerce (the Department) issued Tomatoes from Mexico: Notice of Initiation of Changed Circumstances Review for publication in the Federal Register. In accordance with 19 CFR 351.222(g)(3)(i), the title of the notice of initiation of the changed circumstances review and consideration of termination of the suspended investigation should have included the phrase “Consideration of Termination of Suspended Investigation.” Thus, the title of the notice should have read “Fresh Tomatoes from Mexico: Notice of Initiation of Changed Circumstances Review and Consideration of Termination of Suspended Investigation.” The Department is correcting the title of the notice of initiation with this notice of correction. All other aspects of the notice issued on August 14, 2012, remain unchanged.

This notice is published in accordance with sections 751(b)(1) of the Act and 19 CFR 351.216, 351.221(c)(3), and 351.222(g)(3)(i).

Dated: August 15, 2012.
Ronald K. Lorentzen,
Acting Assistant Secretary for Import Administration.

[FR Doc. 2012-20555 Filed 8-20-12; 8:45 am]

BILLING CODE 3510-DS-P